FEDERAL COMMUNICATIONS COMMISSION

47 CFR Part 73

[DA 02-2281, MB Docket No. 02-280, RM-10558]

Television Broadcast Service; Blanco, TX

AGENCY: Federal Communications Commission.

ACTION: Proposed rule.

SUMMARY: The Commission requests comments on a petition filed by Univision Television Group, Inc., proposing the substitution of channel 17 for channel 52+ at Blanco, Texas. TV Channel 17 can be allotted to Blanco, Texas, with a zero offset at coordinates 29-42-58 N. and 98-30-39 W. Since the community of Blanco is located within 275 kilometers of the U.S.-Mexico border, concurrence from the Mexican government must be obtained for this allotment.

DATES: Comments must be filed on or before November 12, 2002, and reply comments on or before November 27, 2002.

ADDRESSES: Federal Communications Commission, 445 12th Street, SW., Room TW-A325, Washington, DC 20554. In addition to filing comments with the FCC, interested parties should serve the petitioner, or its counsel or consultant, as follows: Scott R. Flick, Brendan Holland, Shaw Pittman LLP, 2300 N Street, NW., Washington, DC 20037-1128 (Counsel for Univision Television Group, Inc.).

FOR FURTHER INFORMATION CONTACT: Pam Blumenthal, Media Bureau, (202) 418-1600.

SUPPLEMENTARY INFORMATION: This is a synopsis of the Commission's Notice of Proposed Rule Making, MB Docket No. 02-280, adopted September 13, 2002, and released September 18, 2002. The full text of this document is available for public inspection and copying during regular business hours in the FCC Reference Information Center, Portals II, 445 12th Street, SW., Room CY-A257, Washington, DC 20554. This document may also be purchased from the Commission's duplicating contractor, Qualex International, Portals II, 445 12th Street, SW., Room CY-B402, Washington, DC 20554, telephone 202-863-2893, facsimile 202-863-2898, or via-e-mail qualexint@aol.com.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Television broadcasting.

For the reasons discussed in the preamble, the Federal Communications Commission proposes to amend 47 CFR Part 73 as follows:

PART 73—RADIO BROADCAST SERVICES

1. The authority citation for part 73 continues to read as follows:

Authority: 47 U.S.C. 154, 303, 334 and 336.

§ 73.606 [Amended]

2. Section 73.606(b), the Table of Television Allotments under Texas, is amended by removing Channel 52+ and adding Channel 17 at Blanco.

Federal Communications Commission.
Barbara A. Kreisman,
Chief, Video Division, Media Bureau.

[FR Doc. 02-24355 Filed 9-24-02; 8:45 am]

BILLING CODE 6712-01-P